DEPARTMENT OF HEALTH AND HUMAN SERVICES

Administration for Community Living

Agency Information Collection Activities: Submission for OMB Review; Comment Request; Developmental Disabilities Protection & Advocacy Program Statement of Goals and Priorities

AGENCY: Administration for Community Living, HHS.

ACTION: Notice.

SUMMARY: The Administration Intellectual and Developmental Disabilities (AIDD), Administration for Community Living (ACL) is announcing that the proposed collection of information listed below has been submitted to the Office of Management and Budget (OMB) for review and clearance under the Paperwork Reduction Act of 1995. This notice originally had a submission deadline of September 19, 2012. We are republishing the notice to due to incorrect contact information for OMB. Comments already successfully submitted will be given consideration and in the event an individual or organization resubmits comments, there most recent submission will be considered.

DATES: Submit written comments on the collection of information by November 1, 2012.

ADDRESSES: Submit written comments on the collection of information to OIRA_submission@omb.eop.gov or by fax to 202.395.5806. Attn: OMB Desk Officer for ACL, Office of Information and Regulatory Affairs, OMB.

FOR FURTHER INFORMATION CONTACT: Brianne Burger, 202.618.5525.

SUPPLEMENTARY INFORMATION: In compliance with 44 U.S.C. 3507, ACL has submitted the following proposed collection of information to OMB for review and clearance. Federal statute and regulation require each State Protection and Advocacy (P&A) System to prepare and solicit public comment on a Statement of Goals and Priorities (SGP) for the P&A for Developmental Disabilities (PADD) program for each coming fiscal year. While the P&A is mandated to protect and advocate under a range of different federally authorized disabilities programs, only the PADD program requires an SGP. Following the required public input for the coming fiscal year, the P&As submit the final version of this SGP to the Administration on Intellectual and Developmental Disabilities (AIDD). AIDD will aggregate the information in the SGPs into a national profile of programmatic emphasis for P&A Systems in the coming year. This aggregation will provide AIDD with a tool for monitoring of the public input requirement. Furthermore, it will provide an overview of program direction, and permit AIDD to track accomplishments against goals/targets, permitting the formulation of technical assistance and compliance with the Government Performance and Results Act of 1993. ACL estimates the burden of this collection of information as follows:

Annual Burden Estimates
Instrument | Number of respondents | Number of responses per respondent | Average burden hours per response | Total burden hours
P&A SGP | 57 | 1 | 44 | 2,508

Estimated Total Annual Burden Hours: 2,508.

Dated: September 27, 2012.
Kathy Greenlee,
Administrator & Assistant Secretary for Aging.

[FR Doc. 2012-24236 Filed 10-1-12; 8:45 am]

BILLING CODE 4154-01-P